DEPARTMENT OF COMMERCE

International Trade Administration

[A-570-209]

Fiberglass Door Panels From the People's Republic of China: Postponement of Preliminary Determination in the Less-Than-Fair-Value Investigation

AGENCY: Enforcement and Compliance, International Trade Administration, Department of Commerce.

DATES: Applicable August 12, 2025.

FOR FURTHER INFORMATION CONTACT: Miranda Bourdeau and Samuel Frost, AD/CVD Operations, Office V, Enforcement and Compliance, International Trade Administration, U.S. Department of Commerce, 1401 Constitution Avenue NW, Washington, DC 20230, telephone: (202) 482-2021 and (202) 482-8180, respectively.

SUPPLEMENTARY INFORMATION:

Background

On April 9, 2025, the U.S. Department of Commerce (Commerce) initiated a less-than-fair-value (LTFV) investigation of imports of fiberglass door panels from the People's Republic of China.¹ Currently, the preliminary determination is due no later than August 27, 2025.

¹ See Fiberglass Door Panels from the People's Republic of China: Initiation of Less-Than-Fair-Value Investigation, 90 FR 15684 (April 15, 2025), as corrected in Less-Than-Fair Value and Countervailing Duty Investigations of Fiberglass Door Panels and Polypropylene Corrugated Boxes from the People's Republic of China; Correction, 90 FR 21455 (May 20, 2025).

Postponement of Preliminary Determination

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On July 30, 2025, the petitioner ² submitted a timely request that Commerce postpone the preliminary determination in the LTFV investigation.³ The petitioner stated that it requested postponement to “allow {Commerce} to issue supplemental questionnaires and receive responses prior to making its preliminary AD determination” ⁴ and because “this is the first time {Commerce} has examined this product.” ⁵

² The petitioner is the American Fiberglass Door Coalition.

³ See Petitioner's Letter, “Request for an Extension of the Preliminary Results,” dated July 30, 2025.

⁴ Id.

⁵ Id.

For the reasons stated above and because there are no compelling reasons to deny the request, Commerce, in accordance with section 733(c)(1)(A) of the Act, is postponing the deadline for the preliminary determination by 50 days (i.e., 190 days after the date on which this investigation was initiated). As a result, Commerce will issue its preliminary determination no later than October 16, 2025. In accordance with section 735(a)(1) of the Act and 19 CFR 351.210(b)(1), the deadline for the final determination in this investigation will continue to be 75 days after the date of the preliminary determination, unless postponed at a later date.

This notice is issued and published pursuant to section 733(c)(2) of the Act and 19 CFR 351.205(f)(1).

Dated: August 6, 2025.
Abdelali Elouaradia,
Deputy Assistant Secretary for Enforcement and Compliance.

[FR Doc. 2025-15247 Filed 8-11-25; 8:45 am]

BILLING CODE 3510-DS-P